DEPARTMENT OF HOMELAND SECURITY

Federal Emergency Management Agency

[Docket ID FEMA-2014-0002; Internal Agency Docket No. FEMA-B-1447]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before February 9, 2015.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1447, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

(Catalog of Federal Domestic Assistance No. 97.022, “Flood Insurance.”)

Dated: October 30, 2014.
Roy E. Wright,
Deputy Associate Administrator for Mitigation, Department of Homeland Security, Federal Emergency Management Agency.

Community | Community map repository address
Douglas County, Colorado, and Incorporated Areas
Maps Available for Inspection Online at: www.fema.gov/preliminaryfloodhazarddata
City of Lone Tree | Town of Lone Tree Public Works Department, 9222 Teddy Lane, Lone Tree, CO 80124.
Town of Castle Rock | Town of Castle Rock Utilities Department, 175 Kellogg Court, Castle Rock, CO 80109.
Town of Parker | Town of Parker Stormwater Utility, Public Works Department, 20120 East Main Street, Parker, CO 80138.
Unincorporated Areas of Douglas County | Douglas County Public Works Department, Engineering Division, 100 Third Street, Castle Rock, CO 80104.
Palm Beach County, Florida, and Incorporated Areas
Maps Available for Inspection Online at: http://www.fema.gov/preliminaryfloodhazarddata
City of Atlantis | 260 Orange Tree Drive, Atlantis, FL 33462.
City of Belle Glade | 110 Dr. Martin Luther King Jr. Boulevard West, Belle Glade, FL 33430.
City of Boca Raton | 201 West Palmetto Park Road, Boca Raton, FL 33432.
City of Boynton Beach | 100 East Boynton Beach Boulevard, Boynton Beach, FL 33435.
City of Delray Beach | City Hall, 100 Northwest 1st Avenue, Delray Beach, FL 33444.
City of Greenacres | 5800 Melaleuca Lane, Greenacres, FL 33463.
City of Lake Worth | City Hall, 7 North Dixie Highway, Lake Worth, FL 33460.
City of Pahokee | 207 Begonia Drive, Pahokee, FL 33476.
City of Palm Beach Gardens | 10500 North Military Trail, Palm Beach Gardens, FL 33410.
City of Riviera Beach | City Hall, 600 West Blue Heron Boulevard, Riviera Beach, FL 33404.
City of South Bay | 335 Southwest Second Avenue, South Bay, FL 33493.
City of West Palm Beach | 401 Clematis Street, 2nd Floor, West Palm Beach, FL 33401.
Town of Briny Breezes | 4802 North Ocean Boulevard, Briny Breezes, FL 33435.
Town of Cloud Lake | 100 Lang Road, West Palm Beach, FL 33406.
Town of Glen Ridge | 1501 Glen Road, West Palm Beach, FL 33406.
Town of Gulf Stream | 100 Sea Road, Gulf Stream, FL 33483.
Town of Haverhill | 4585 Charlotte Street, Haverhill, FL 33417.
Town of Highland Beach | 3614 South Ocean Boulevard, Highland Beach, FL 33487.
Town of Hypoluxo | 7580 South Federal Highway, Hypoluxo, FL 33462.
Town of Juno Beach | 340 Ocean Drive, Juno Beach, FL 33408.
Town of Jupiter | Town Hall, 210 Military Trail, Jupiter, FL 33458.
Town of Jupiter Inlet Colony | 1 Colony Road, Juniper Inlet Colony, FL 33469.
Town of Lake Clarke Shores | 1701 Barbados Road, Lake Clarke Shores, FL 33406.
Town of Lake Park | 535 Park Avenue, Lake Park, FL 33403.
Town of Lantana | Building Department, 318 South Dixie Highway, Lantana, FL 33462.
Town of Loxahatchee Groves | 14579 Southern Boulevard, Suite 2, Loxahatchee Groves, FL 33470.
Town of Manalapan | 600 South Ocean Boulevard, Manalapan, FL 33462.
Town of Mangonia Park | 1755 East Tiffany Drive, Mangonia Park, FL 33407.
Town of Ocean Ridge | 6450 North Ocean Boulevard, Ocean Ridge, FL 33435.
Town of Palm Beach | 360 South County Road, Palm Beach, FL 33480.
Town of Palm Beach Shores | 247 Edwards Lane, Palm Beach Shores, FL 33404.
Town of South Palm Beach | 3577 South Ocean Boulevard, South Palm Beach, FL 33480.
Unincorporated Areas of Palm Beach County | 301 North Olive Avenue, 11th Floor, West Palm Beach, FL 33401.
Village of Golf | 21 Country Road, Village of Golf, FL 33436.
Village of North Palm Beach | Building Department, 501 U.S. Highway 1, North Palm Beach, FL 33408.
Village of Palm Springs | 226 Cypress Lane, Palm Springs, FL 33461.
Village of Royal Palm Beach | Village Hall, 1050 Royal Palm Beach Boulevard, Royal Palm Beach, FL 33411.
Village of Tequesta | 345 Tequesta Drive, Tequesta, FL 33469.
Village of Wellington | 12300 Forest Hill Boulevard, Wellington, FL 33414.

[FR Doc. 2014-26620 Filed 11-7-14; 8:45 am]

BILLING CODE 9110-12-P